DEPARTMENT OF LABOR

Office of the Secretary

Submission for OMB Review: Comment Request

January 31, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Ira Mills on (202) 693-4122 or e-mail: Mills.Ira@dol.gov.

Comments should be sent to Office of Information and Regulatory Affairs, Attn: OMB Desk Officer for ETA, Office of Management and Budget, Room 10235, Washington, DC 20503 (202) 395-7316 (this is not a toll-free number), within 30 days from the data of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Employment and Training Administration Disaster Unemployment Assistance (DUA) Handbook and Operating Forms, Including ETA-90-2, Disaster Payment Activities Under the “Stafford Disaster Relief Act”.

OMB Number: 1205-0051.

Affected Public: Individuals or households; Federal government; and State, local, or tribal government.

Type of Response: Recordkeeping and reporting.

Frequency: On occasion; monthly; weekly; and bi-weekly.

Form | Respondents | Reports filed annually (frequency) | Total annual responses | Average response time (hours) | Annual burden hours
SF 269A | 50 | 6 | 300 | 1.5 | 450
ETA-902 | 50 | 6 | 300 | 1/6 | 50
Initial Applications (Includes processing, determining eligibility, issuing notices, recordkeeping, etc.) | ***11,000 | 1 | 11,000 | 1/6 | 1,833
Supplemental to Initial Application (Self-empl.) | 3,800 | 1 | 3,800 | 1/6 | 633
Weekly claim includes processing, determining eligibility, issuing adjustment notices, recordkeeping, etc.) | 11,000 | *6 | 66,000 | 1/12 | 5,500
Notice of Overpayment | 235 | 1 | 235 | 1/4 | 59
Final Report | 50 | 1 | 50 | 1 | 50
Cost/Expense | 50 | (**) | 75 | 1/4 | 19
Miscellaneous Recordkeeping | 50 | n/a | 81,335 | 1/40 | 2,033
Total | 26,235 |  | 162,795 |  | 10,627
* This figure represents an average number of weeks of unemployment experienced (weeks paid) due to disasters declared each year.
**Represent 50 initial cost/expense reports and 25 supplemental reports.
***Rounded.

Total Annualized Capital/Startup Costs: $0.

Total Annual Costs (operating/maintaining systems or purchasing services): $0.

Description: The information collection requirements contained in Employment and Training Handbook No. 356, 2nd Edition, “Disaster Unemployment Assistance,” are necessary for the administration of Sections 410 and 423 of the Robert T. Stafford Disaster Relief and Emergency Assistance Act (the Act). Workload items are also used with fiscal reports to estimate the cost of administering the Act.

Ira L. Mills,
Departmental Clearance Officer.

[FR Doc. 05-2190 Filed 2-3-05; 8:45 am]

BILLING CODE 4510-30-P